DEPARTMENT OF TRANSPORTATION

Federal Aviation Administration

14 CFR Part 39

[Docket No. 2000-CE-36-AD]

RIN 2120-AA64

Airworthiness Directives; Fairchild Aircraft, Inc. SA26, SA226, and SA227 Series Airplanes

AGENCY: Federal Aviation Administration, DOT.

ACTION: Notice of proposed rulemaking (NPRM).

SUMMARY: This document proposes to adopt a new airworthiness directive (AD) that would apply to certain Fairchild Aircraft, Inc. (Fairchild Aircraft) SA26, SA226, and SA227 series airplanes. The proposed AD would require you to modify the negative torque sensing test system to allow the igniters to automatically turn when an engine senses low torque. The proposed AD is the result of two instances of a dual engine flameout on the affected airplanes. The actions specified by the proposed AD are intended to prevent a dual engine flameout on the affected airplanes by providing a system that automatically turns on the engine igniters when low torque is sensed.A dual engine flameout could result in failure of both engines with consequent loss of control of the airplane.

DATES: The Federal Aviation Administration (FAA) must receive any comments on this rule on or before July 27, 2001.

ADDRESSES: Submit comments in triplicate to FAA,Central Region, Office of the Regional Counsel,Attention: Rules Docket No. 2000-CE-36-AD, 901 Locust,Room 506, Kansas City, Missouri 64106. Comments may be inspected at this location between 8 a.m. and 4 p.m.,Monday through Friday, holidays excepted.

Service information that applies to the proposed AD may be obtained from Fairchild Aircraft, Inc., P.O.Box 790490, San Antonio, Texas 78279-0490; telephone:(210) 824-9421; facsimile: (210) 820-8609. This information also may be examined at the Rules Docket at the address above.

FOR FURTHER INFORMATION CONTACT: Ingrid Knox,Aerospace Engineer, FAA, Airplane Certification Office,2601 Meacham Boulevard, Fort Worth, Texas 76193-0150; telephone: (817) 222-5139; facsimile: (817) 222-5960.

SUPPLEMENTARY INFORMATION:

Comments Invited

How do I comment on the proposed AD? The FAA invites comments on this proposed rule. You may submit whatever written data, views, or arguments you choose. You need to include the rule's docket number and submit your comments in triplicate to the address specified under the caption ADDRESSES. The FAA will consider all comments received on or before the closing date. We may amend the proposed rule in light of comments received. Factual information that supports your ideas and suggestions is extremely helpful in evaluating the effectiveness of the proposed AD action and determining whether we need to take additional rulemaking action.

Are there any specific portions of the proposed AD I should pay attention to? The FAA specifically invites comments on the overall regulatory, economic, environmental, and energy aspects of the proposed rule that might suggest a need to modify the rule. You may examine all comments we receive before and after the closing date of the rule in the Rules Docket. We will file a report in the Rules Docket that summarizes each FAA contact with the public that concerns the substantive parts of the proposed AD.

We are re-examining the writing style we currently use in regulatory documents, in response to the Presidential memorandum of June 1, 1998. That memorandum requires federal agencies to communicate more clearly with the public. We are interested in your comments on whether the style of this document is clear, and any other suggestions you might have to improve the clarity of FAA communications that affect you. You can get more information about the Presidential memorandum and the plain language initiative at http://www.plainlanguage.gov.

How can I be sure FAA receives my comment? If you want us to acknowledge the receipt of your comments, you must include a self-addressed, stamped postcard. On the postcard, write “Comments to Docket No. 2000-CE-36-AD.” We will date stamp and mail the postcard back to you.

Discussion

What events have caused this proposed AD? Several occurrences of dual-engine flameout on aircraft have prompted FAA to examine the service history of certain type-certificated airplanes. Among those examined were the Fairchild Aircraft SA26, SA226, and SA227 series airplanes.

Our analysis reveals the following:

—Two incidents of dual-engine flameout on Fairchild Aircraft SA227 series airplanes; and

—The incidents are unique to the specific airplane configuration and not the generic engine installation.

What are the consequences if the condition is not corrected? A dual engine flameout could result in failure of both engines with consequent loss of control of the airplane.

Relevant Service Information

Is there service information that applies to this subject? Fairchild Aircraft has issued the following service bulletins:

—Service Bulletin 26-74-30-048 (FA Kit Drawing 26K82301), Revised: April 13, 2000, which applies to certain Model SA26-AT airplanes;

—Service Bulletin No. 226-74-003 (FA Kit Drawing 27K82087), Issued: March 21, 2000, which applies to all SA226 series airplanes;

—Service Bulletin 227-74-003 (FA Kit Drawing 27K82087), Issued: March 21, 2000, which applies to certain Model SA227-TT airplanes; and

—Service Bulletin 227-74-001, Issued: July 8,1986, which applies to certain Models SA227-AT and SA227-AC airplanes.

What are the provisions of this service bulletin? The service bulletins specify the incorporation of a kit that would modify the negative torque sensing test system to allow the igniters to automatically turn when an engine senses low torque.

The FAA's Determination and an Explanation of the Provisions of the Proposed AD

What has FAA decided? After examining the circumstances and reviewing all available information related to the incidents described above, we have determined that:

—The unsafe condition referenced in this document exists or could develop on other Fairchild Aircraft SA26, SA226, and SA227 series airplanes of the same type design;

—The condition is unique to the specific airplane configuration and not the generic engine installation;

—The actions specified in the previously-referenced service information should be accomplished on the affected airplanes; and

—AD action should be taken in order to correct this unsafe condition.

What would the proposed AD require? This proposed AD would require you to incorporate the applicable kit as specified in the previously-referenced service information.

Cost Impact

How many airplanes would the proposed AD impact? We estimate that the proposed AD affects 259 airplanes in the U.S. registry.

What would be the cost impact of the proposed AD on owners/operators of the affected airplanes? We estimate the following costs to accomplish the proposed modification:

Labor cost | Parts cost | Total cost per airplane | Total cost on U.S. operators
16 workhours × $60 per hour = $960 | Ranges between $1,726 and $6,873 per airplane (we will use a firgure of $4,000 | $4,960 | $1,284,640

Compliance Time of the Proposed AD

What is the compliance time of the proposed AD? The compliance time of this proposed AD is within the next 6 calendar months after the effective date of this proposed AD.

Why is the proposed compliance time presented in calendar time instead of hours time-in-service (TIS)? Although a dual-engine flameout could only occur on the affected airplanes during airplane operation, the condition is not directly related to airplane usage. The condition exists on the airplanes regardless of whether the airplane has accumulated 50 hours time-in-service (TIS) or 5,000 hours TIS.

The FAA has determined that the 6-calendar-month compliance time:

—Gives all owners/operators of the affected airplanes adequate time to schedule and accomplish the actions in this proposed AD; and

—Assures that the unsafe condition referenced in this proposed AD will be corrected within a reasonable time period without inadvertently grounding any of the affected airplanes.

Regulatory Impact

Would this proposed AD impact various entities? The regulations proposed herein would not have a substantial direct effect on the States, on the relationship between the national government and the States, or on the distribution of power and responsibilities among the various levels of government. Therefore, it is determined that this proposed rule would not have federalism implications under Executive Order 13132.

Would this proposed AD involve a significant rule or regulatory action? For the reasons discussed above, I certify that this action (1) is not a “significant regulatory action” under Executive Order 12866; (2) is not a “significant rule” under DOT Regulatory Policies and Procedures (44 FR 11034, February 26, 1979); and (3) if promulgated, will not have a significant economic impact, positive or negative, on a substantial number of small entities under the criteria of the Regulatory Flexibility Act. A copy of the draft regulatory evaluation prepared for this action has been placed in the Rules Docket. A copy of it may be obtained by contacting the Rules Docket at the location provided under the caption ADDRESSES.

List of Subjects in 14 CFR Part 39

Air transportation, Aircraft, Aviation safety, Safety.

The Proposed Amendment

Accordingly, under the authority delegated to me by the Administrator, the Federal Aviation Administration proposes to amend 14 CFR part 39 of the Federal Aviation Regulations as follows:

PART 39—AIRWORTHINESS DIRECTIVES

1. The authority citation for part 39 continues to read as follows:

Authority: 49 U.S.C. 106(g), 40113, 44701.

§ 39.13 [Amended]

2. FAA amends § 39.13 by adding a new airworthiness directive (AD) to read as follows:

Fairchild Aircraft, Inc.: Docket No. 2000-CE-36-AD

(a) What airplanes are affected by this AD? This AD affects the following airplane models and serial numbers that are certificated in any category:

Model | Serial Nos.
SA26-AT | AT100 through AT180E.
SA226-AT | AT001 through AT074.
SA226-T | T201 through T275, and T277 through T291.
SA226-T(B) | T276 and T292 through T417.
SA226-TC | TC201 through TC419.
SA227-AC | AC406, AC415, AC416, AC420 through AC633, AC637, AC638, AC641 through AC644, AC647, AC648, AC651, AC652, AC656, and AC657.
SA227-AT | AT423 through AT631.
SA227-TT | TT421 through TT547.

(b) Who must comply with this AD? Anyone who wishes to operate any of the above airplanes must comply with this AD.

(c) What problem does this AD address? The actions specified by this AD are intended to prevent a dual engine flameout on the affected airplanes by providing a system that automatically turns on the engine igniters when low torque is sensed. A dual engine flameout could result in failure of both engines with consequent loss of control of the airplane.

(d) What actions must I accomplish to address this problem? To address this problem, you must accomplish the following:

Actions | Compliance | Procedures
Incorporate the kit specified in the applicable service bulletin. This kit modifies the negative torque sensing test system to allow the igniters to automatically turn when an engine senses low torque | Within the next 6 calendar months after the effective date of this AD | Accomplish the modification in accordance with the instructions provided with the kit that is referenced in either Fairchild Aircraft Service Bulletin 26-74-30-048 (FA Kit Drawing 26K82301), Revised: April 13, 2000; Fairchild Aircraft Service Bulletin No. 226-74-003 (FA Kit Drawing 27K82087), Issued: March 21, 2000; Fairchild Aircraft Service Bulletin 227-74-003 (FA Kit Drawing 27K82087), Issued: March 21, 2000; or Fairchild Aircraft Service Bulletin 227-74-001, Issued: July 8, 1986, as applicable.

(e) Can I comply with this AD in any other way? You may use an alternative method of compliance or adjust the compliance time if:

(1) Your alternative method of compliance provides an equivalent level of safety; and

(2) The Manager, Fort Worth Airplane Certification Office (ACO), approves your alternative. Submit your request through an FAA Principal Maintenance Inspector, who may add comments and then send it to the Manager,Fort Worth ACO.

Note: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Ingrid Knox, Aerospace Engineer, FAA, Airplane Certification Office, 2601 Meacham Boulevard, Fort Worth, Texas 76193-0150; telephone: (817) 222-5139; facsimile: (817) 222-5960.

(g) What if I need to fly the airplane to another location to comply with this AD? The FAA can issue a special flight permit under sections 21.197 and 21.199 of the Federal Aviation Regulations (14 CFR 21.197 and 21.199) to operate your airplane to a location where you can accomplish the requirements of this AD.

(h) How do I get copies of the documents referenced in this AD? You may obtain copies of the documents referenced in this AD from Fairchild Aircraft, Inc., P.O. Box 790490, San Antonio, Texas 78279-0490. You may examine these documents at FAA, Central Region, Office of the Regional Counsel, 901 Locust, Room 506, Kansas City, Missouri 64106.

Issued in Kansas City, Missouri, on May 21, 2001.
Michael Gallagher,
Manager, Small Airplane Directorate, Aircraft Certification Service.

[FR Doc. 01-13466 Filed 5-29-01; 8:45 am]

BILLING CODE 4910-13-U